DEPARTMENT OF EDUCATION

Privacy Act of 1974; System of Records; Employee Conduct—Government Ethics (18-09-03)

AGENCY: Office of the General Counsel, U.S. Department of Education.

ACTION: Notice of an altered system of records.

SUMMARY: In accordance with the Privacy Act of 1974, as amended (Privacy Act), the Department of Education (Department) publishes this notice of an altered system of records entitled “Employee Conduct—Government Ethics (18-09-03),” last published in the Federal Register on June 4, 1999 (64 FR 30149-50). The Department amends this notice by: (1) Updating the categories of individuals covered by the system to include employees who are required to attend ethics training; (2) revising the categories of records in the system to exclude records covered by two government-wide executive branch Privacy Act systems of records of the Office of Government Ethics (OGE): OGE/GOVT-1 and OGE/GOVT-2 and to include records relating to compliance with ethics training requirements; (3) revising the authority for the system; (4) adding that a purpose of the system is to ensure compliance with ethics training requirements; (5) adding a new routine use to allow disclosures to the Office of Government Ethics pursuant to its oversight responsibilities; (6) revising the paragraph on storage to include electronic records; (7) revising the paragraph on safeguards to include the measures taken to protect electronic records; (8) revising the paragraph on retention and disposal to state that the records in the system will be destroyed in accordance with the National Archives and Records Administration's General Records Schedule (GRS) 25 for Ethics Program Records; and (9) adding a new paragraph on record source categories, which was inadvertently omitted from the last publication of the system of records notice.

DATES: The Department seeks comments on the altered system of records described in this notice, in accordance with the requirements of the Privacy Act. We must receive your comments on the proposed routine uses for the system of records included in this notice on or before April 14, 2004.

The Department filed a report describing the revisions to the system of records covered by this notice with the Chair of the Committee on Governmental Affairs of the United States Senate, the Chair of the Committee on Government Reform of the United States House of Representatives, and the Administrator of the Office of Information and Regulatory Affairs, Office of Management and Budget (OMB) on March 9, 2004. The changes made in this notice will become effective at the later date of—(1) the expiration of the 40-day period for OMB review on April 18, 2004 or (2) April 14, 2004, unless the system of records needs to be changed as a result of public comment or OMB review. The Department will publish any changes to the routine uses.

ADDRESSES: Address all comments about the proposed routine uses to Karen Santoro, Ethics Division, Office of the General Counsel, U.S. Department of Education, 400 Maryland Avenue, SW., room 6E231, Washington, DC 20202-2110. If you prefer to send comments through the Internet, use the following address: comments@ed.gov. You must include the term “Employee Conduct” in the subject line of the electronic message.

During and after the comment period, you may inspect all comments about this notice in room 6E231, 400 Maryland Avenue, SW., Washington, DC, between the hours of 8 a.m. and 4:30 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Karen Santoro. Telephone: (202) 401-8309. If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Introduction

The Privacy Act (5 U.S.C. 552a) requires the Department to publish in the Federal Register this notice of an altered system of records maintained by the Department. The Department's regulations implementing the Privacy Act are contained in the Code of Federal Regulations (CFR) in 34 CFR part 5b.

The Privacy Act applies to information about an individual that contains individually identifiable information that is retrieved by a unique identifier associated with each individual, such as a name or social security number. The information about each individual is called a “record” and the system, whether manual or computer-based, is called a “system of records.”

The Privacy Act requires each agency to publish a notice of a system of records in the Federal Register and to prepare a report to OMB, whenever the agency publishes a new system of records or makes a significant change to an established system of records. Each agency is also required to send copies of the report to the Chair of the Senate Committee on Governmental Affairs and the Chair of the House Committee on Government Reform. The report is intended to permit an evaluation of the probable or potential effect of the proposal on the privacy rights of individuals.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498, or in the Washington, DC, area at (202) 512-1530.

Note: The official version of this document is the document published in the Federal Register. Free Internet access to the official edition of the Federal Register and the Code of Federal Regulations is available on GPO Access at: http://www.gpoaccess.gov/nara/index.html.

Dated: March 9, 2004.
Brian W. Jones,
General Counsel.

For the reasons discussed in the preamble, the General Counsel of the U.S. Department of Education publishes a notice of an altered system of records. The following amendments are made in the Notice of New, Amended, Altered and Deleted Systems of Records published in the Federal Register on June 4, 1999 (64 FR 30105-30191):

1. On page 30149, 2nd column, under the headings Categories of Individuals Covered by the System, Categories of Records in the System, Authority for Maintenance of the System, and Purpose(s), the paragraphs are revised to read as follows:

Categories of Individuals Covered by the System:

This system contains information about current and past Department employees (1) who have requested and/or received advice or guidance in subject matter areas relating to employee conduct, or (2) who are required to attend ethics training.

Categories of Records in the System:

This system contains documents and records not covered by two government-wide executive branch Privacy Act systems of records of the Office of Government Ethics (OGE): OGE/GOVT-1 and OGE/GOVT-2. These documents and records may include, but are not limited to, information relating to acceptance or offer of gifts, entertainment and favors, or outside employment; financial interests; use of government funds, property, or official information; partisan political activity; compliance with ethics training requirements; or other matters relating to employee conduct.

Authority for Maintenance of the System:

Pub. L. 95-521, Ethics in Government Act of 1978; Pub. L. 101-194, Ethics Reform Act of 1989, as amended; and Executive Orders 12674, 12565, and 11222, as amended.

Purpose(s):

The records in this system are maintained in order for the Office of the General Counsel to provide advice and guidance in subject matter areas relating to employee conduct and to ensure that employees comply with ethics requirements.

2. On page 30150, 1st column, make the following changes:

A. After the paragraph labeled “(6) Congressional Member Disclosures,” a new paragraph is added as follows:

(7) Office of Government Ethics Disclosure. The Department may disclose records to the Office of Government Ethics if the disclosure is relevant to the Office of Government Ethics' review of the Department's ethics program or if the Department seeks the advice of the Office of Government Ethics on matters relating to the Department's ethics program, including, but not limited to, the program's structure and staffing, education and training, counseling or advice, public financial disclosures, confidential financial disclosures, outside employment and activities, or post employment.

B. Under the heading Storage, the paragraph is revised to read as follows:

Storage:

Paper records are kept in legal size files in filing cabinets; electronic records are kept in a database maintained and managed by the Ethics Division of the Office of the General Counsel.

3. On page 30150, 2nd column, make the following changes:

A. Under the heading Safeguards, the paragraph is revised to read as follows:

Safeguards:

These records are only accessible to staff of the Ethics Division of the Office of General Counsel. Paper records are kept in filing cabinets that are locked after the close of the business day, and electronic records are kept only on authorized users' computers, which are password-protected.

B. Under the heading Retention and Disposal, the paragraph is revised to read as follows:

Retention and Disposal:

The records in this system will be retained and disposed of in accordance with the National Archives and Records Administration's General Records Schedule (GRS) 25 for Ethics Program Records.

C. After the heading Contesting Record Procedures, a new paragraph is added to read as follows:

Record Source Categories:

Information is obtained from individuals who request advice and from employees and other Department records in connection with the administration of the ethics training program.

[FR Doc. 04-5676 Filed 3-12-04; 8:45 am]

BILLING CODE 4000-01-P